INTERNATIONAL TRADE COMMISSION

[Investigation No. 731-TA-1163 (Review)]

Woven Electric Blankets From China; Termination of Five-year Review

AGENCY: United States International Trade Commission.

ACTION: Notice.

SUMMARY: The Commission instituted the subject five-year review in July 2015 to determine whether revocation of the antidumping duty order on woven electric blankets from China would be likely to lead to continuation or recurrence of material injury. On August 18, 2015, the Department of Commerce published notice that it was revoking the order effective August 18, 2015, because “no domestic interested party filed a notice of intent to participate in response to the Initiation Notice by the applicable deadline.” (80 FR 49987, August 18, 2015). Accordingly, the subject review is terminated.

DATES: Effective August 25, 2015.

FOR FURTHER INFORMATION CONTACT: Michael Szustakowski (202-205-3169), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: This review is being terminated under authority of title VII of the Tariff Act of 1930 and pursuant to section 751(c) of the Tariff Act of 1930 (19 U.S.C. 1675(c)). This notice is published pursuant to section 207.69 of the Commission's rules (19 CFR 207.69).

By order of the Commission.
Dated: August 26, 2015.
Lisa R. Barton,
Secretary to the Commission.

[FR Doc. 2015-21466 Filed 8-28-15; 8:45 am]

BILLING CODE 7020-02-P